DEPARTMENT OF COMMERCE

National Oceanic and Atmospheric Administration

Agency Information Collection Activities; Submission to the Office of Management and Budget (OMB) for Review and Approval; Comment Request; For-Hire Telephone Survey

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on June 24, 2020 during a 60-day comment period. This notice allows for an additional 30 days for public comments.

Agency: National Oceanic & Atmospheric Administration (NOAA), Commerce.

Title: For-Hire Telephone Survey.

OMB Control Number: 0648-0709.

Form Number(s): None.

Type of Request: Regular submission (extension of a current information collection).

Number of Respondents: 23,114.

Average Hours per Response: 3 minutes, 30 seconds.

Total Annual Burden Hours: 1,348.

Needs and Uses: This request is for extension of a currently approved information collection. The For-Hire Survey (FHS) is conducted for NMFS to estimate fishing effort on for-hire vessels (i.e., charter boats and head boats) in coastal states from Maine to Mississippi. These data are required to carry out provisions of the Magnuson-Stevens Fishery Conservation and Management Act (16 U.S.C. 1801 et seq.), as amended, regarding conservation and management of fishery resources.

The FHS collects fishing effort information from for-hire vessel representatives by telephone interview. For-hire vessels are randomly selected for the FHS from a comprehensive sample frame developed and maintained by NMFS. A sample of 10% of the vessels on the FHS frame are selected for reporting each week. Each interview collects information about the vessel, the number and type of trips the vessel made during the reporting week, the number of anglers on each trip, and other trip-level information.

For-hire fishing effort is estimated in numbers of angler-trips per sub-region, state, two-month wave, vessel type, and fishing area (inshore, nearshore, offshore). To get a total for-hire effort estimate, weekly FHS effort estimates are summed to produce wave estimates that are adjusted to account for frame coverage and reporting error. The FHS estimates are then combined with for-hire catch-rate estimates derived from complementary Marine Recreational Information Program (MRIP) surveys, to estimate total, state-level fishing catch. These estimates are used in the development, implementation, and monitoring of fishery management programs by the NMFS, regional fishery management councils, interstate marine fisheries commissions, and state fishery agencies.

Affected Public: Individuals or households; Business or other for-profit organizations.

Frequency: On occasion.

Respondent's Obligation: Voluntary.

Legal Authority: Magnuson-Stevens Fishery Conservation and Management Act.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0709.

Sheleen Dumas,
Department PRA Clearance Officer, Office of the Chief Information Officer, Commerce Department.

[FR Doc. 2020-26461 Filed 11-30-20; 8:45 am]

BILLING CODE 3510-22-P